DEPARTMENT OF DEFENSE

Department of the Navy

Meeting of the Board of Visitors to the U.S. Naval Academy

AGENCY: Department of the Navy, DOD.

ACTION: Notice of partially closed meeting.

SUMMARY: The U.S. Naval Academy Board of Visitors will meet to make such inquiry as the Board shall deem necessary into the state of morale and discipline, the curriculum, instruction, physical equipment, fiscal affairs, and academic methods of the Naval Academy. During this meeting inquiries will relate to the internal personnel rules and practices of the Academy, may involve on-going criminal investigations, and include discussions of personal information the disclosure of which would constitute a clearly unwarranted invasion of personal privacy. The Executive Session of this meeting will be closed to the public.

DATES: The meeting will be held on Monday, May 7, 2001, from 8:30 a.m. to 11:45 a.m. The closed Executive Session will be from 10:50 a.m. to 11:45 a.m.

ADDRESSES: The meeting will be held in the Bo Coppedge Dining Room of Alumni Hall at the U.S. Naval Academy.

FOR FURTHER INFORMATION CONTACT: Lieutenant Commander Thomas E. Osborn, Executive Secretary to the Board of Visitors, Office of the Superintendent, U.S. Naval Academy, Annapolis, MD 21402-5000, telephone number (410) 293-1503.

SUPPLEMENTARY INFORMATION: This notice of partially closed meeting is provided per the Federal Advisory Committee Act (5 U.S.C. App. 2). The Executive Session of the meeting will consist of discussions of information which pertain to the conduct of various midshipmen at the Naval Academy and internal Board of Visitors matters. Discussion of such information cannot be adequately segregated from other topics, which precludes opening the Executive Session of this meeting to the public. In accordance with 5 U.S.C. App. 2, section 10(d), the Secretary of the Navy has determined in writing that the special committee meeting shall be partially closed to the public because they will be concerned with matters as outlined in sections 552(b)(2), (5), (6), and (7) of title 5, U.S.C. This meeting was originally scheduled for March 5, 2001, and public notice was published on March 2, 2001 (66 FR 13062). Due to administrative constraints, notice of cancellation of the March 2, 2001, meeting could not be provided prior to the meeting.

Dated: March 23, 2001.
J.L. Roth,
Lieutenant Commander, Judge Advocate General's Corps, U.S. Navy, Federal Register Liaison Officer.

[FR Doc. 01-8012 Filed 3-30-01; 8:45 am]

BILLING CODE 3810-FF-P